DEPARTMENT OF HEALTH AND HUMAN SERVICES

Health Resources and Services Administration

Notice of Supplemental Funding, Health Center Program

AGENCY: Health Resources and Services Administration (HRSA), Department of Health and Human Services.

ACTION: Notice of supplemental funding.

SUMMARY: HRSA will provide a performance period extension with supplemental funds to one Health Center Program award recipient with a period of performance ending in fiscal year 2025. The supplemental funding will extend their current period of performance by 12 months to prevent interruptions in access to critical primary health care services in the community.

FOR FURTHER INFORMATION CONTACT: Erica Clift, HSRA, at EClift@hrsa.gov and 301-594-4300.

SUPPLEMENTARY INFORMATION:

Intended Recipient of the Award: Bronx Community Health Network (BCHN), which serves the Bronx, NY service area, which is a community that is vulnerable to a lapse in access to comprehensive primary health care services.

Amount of Competitive or Non-Competitive Award: One award for $9,369,314.

Project Period: February 1, 2022 to January 31, 2026.

Assistance Listing (CFDA) Number: 93.224.

Award Instrument: Grant for Health Services.

Authority: Section 330 of the Public Health Service Act, as amended (42 U.S.C. 254b, as amended).

Table 1—Recipient and Award Amount
Grant No. | Award recipient name | City, State | Award amount
H80CS00626 | Bronx Community Health Network | Bronx, NY | $9,369,314

Justification: BCHN is a current Health Center Program award recipient, and the supplemental funding will permit BCHN to continue operations from February 1, 2025, through January 31, 2026, before submitting a competitive Service Area Competition application by the end of the 12-month extension period. The award recipient will continue activities with this supplemental funding that are within the scope of its current Health Center Program project. This action is necessary to ensure continued access to comprehensive primary health care services for the surrounding community. HRSA has determined that it is in the best interests of the Health Center Program and the residents in the service area to extend the period of performance for the current Health Center Program awardee to ensure the uninterrupted availability of and access to high-quality, comprehensive primary health care services to individuals throughout the service area and target population, regardless of the ability to pay.

Carole Johnson,
Administrator.

[FR Doc. 2024-17582 Filed 8-7-24; 8:45 am]

BILLING CODE 4165-15-P